SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1-31, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals by Rule Issued Under 18 CFR 806.22(f):

1. Cabot Oil & Gas Corporation, Pad ID: EmpetD P1, ABR-201211007.R1, Harford Township, Susquehanna County, Pa.; Consumptive Use of Up to 5.0000 mgd; Approval Date: December 5, 2017.

2. Cabot Oil & Gas Corporation, Pad ID: WoodE P1, ABR-201211008.R1, Dimock Township, Susquehanna County, Pa.; Consumptive Use of Up to 5.0000 mgd; Approval Date: December 5, 2017.

3. SWN Production Company, LLC, Pad ID: BOMAN PAD, ABR-201212011.R1, Jackson Township, Susquehanna County, Pa.; Consumptive Use of Up to 4.9990 mgd; Approval Date: December 5, 2017.

4. Pennsylvania General Energy Company, LLC, Pad ID: COP Tract 322 Pad C, ABR-201304006.1, Cummings Township, Lycoming County, Pa.; Consumptive Use of Up to 4.5000 mgd; Approval Date: December 7, 2017.

5. Pennsylvania General Energy Company, LLC, Pad ID: COP Tract 322 Pad E, ABR-201308002.1, Cummings Township, Lycoming County, Pa.; Consumptive Use of Up to 4.5000 mgd; Approval Date: December 7, 2017.

6. EXCO Resources (PA), LLC, Pad ID: COP Tract 727 (Pad 3), ABR-201211011.R1, Gallagher Township, Clinton County, Pa.; Consumptive Use of Up to 8.0000 mgd; Approval Date: December 15, 2017.

7. Seneca Resources Corporation, Pad ID: DCNR 100 Pad R, ABR-201304013.R1, Lewis Township, Lycoming County, Pa.; Consumptive Use of Up to 4.0000 mgd; Approval Date: December 15, 2017.

Authority: Pub. L. 91-575, 84 Stat. 1509 et seq., 18 CFR parts 806, 807, and 808.

Dated: February 16, 2018.
Stephanie L. Richardson,
Secretary to the Commission.

[FR Doc. 2018-03689 Filed 2-22-18; 8:45 am]

BILLING CODE 7040-01-P